DEPARTMENT OF ENERGY

Federal Energy Regulatory Commission

[IC01-1F-000, FERC Form 1-F]

Proposed Information Collection and Request for Comments

September 25, 2001.

AGENCY: Federal Energy Regulatory Commission.

ACTION: Notice of proposed information collection and request for comments.

SUMMARY: In compliance with the requirements of section 3506(c)(2)(a) of the Paperwork Reduction Act of 1995 (Pub. L. No. 104-13), the Federal Energy Regulatory Commission (Commission) is soliciting public comment on the specific aspects of the information collection described below.

DATES: Consideration will be given to comments submitted within 60 days of the publication of this notice.

ADDRESSES: Copies of the proposed collection of information can be obtained from and written comments may be submitted to the Federal Energy Regulatory Commission, Attn: Michael Miller, Office of the Chief Information Officer, CI-1, 888 First Street NE, Washington, DC 20426.

FOR FURTHER INFORMATION CONTACT: Michael Miller may be reached by telephone at (202)208-1415, by fax at (202)208-2425, and by e-mail at mike.miller@ferc.fed.us.

SUPPLEMENTARY INFORMATION: The information collected under the requirements of FERC Form 1-F “Annual Report for Nonmajor Electric Utilities and Licensees” (OMB No. 1902-0029) is used by the Commission to implement the statutory provisions of the Federal Power Act (FPA) 16 U.S.C. 791a-825r. The Commission is authorized and empowered to make investigations, collect and record data, prescribe rules and regulations concerning accounts, records and memoranda as necessary or appropriate for administering the FPA. The Commission may prescribe a system of accounts for jurisdictional companies and, after notice and opportunity for hearing, may determine the accounts in which particular outlays and receipts will be entered, charged or credited. The FERC Form No. 1-F is a financial and operating report for electric rate regulation. “Nonmajor” is defined as having total sales in each of the last three consecutive years of 10,000 megawatt-hours or less.

FERC staff uses the data in the continuous review of the financial condition of regulated companies, in various rate proceedings and supply programs and in the Commission's audit program. The annual financial information filed with the Commission is a mandatory requirement submitted in a prescribed format which is filed electronically via the Internet. The Commission implements these filing requirements in the Code of Federal Regulations (CFR) under 18 CFR Parts 41, 101, 141.2.

Action: The Commission is requesting a three-year extension of the current expiration date, with certain changes to the existing collection of data. Based on a review of the FERC's requirements for Form 1-F data and requests from respondents for reductions in the collection, the Commission recommends the elimination of the Form 1-F schedules listed below:

• Data on Security Holders and Voting Powers (Parts X and XI, P. 18)

• Nonutility Property (221, P. 110)

• Capital Stock Sub, Cap Stock Liability for Con, Prem. Cap Stock, & Inst Received (252, P. 112)

• Discount on Capital Stock (254, P. 112)

• Particulars Concerning Certain Income Deduction and Interest Charges (340, P. 117)

• Electric Distribution Meters and Line Transformers (429, lines 63 & 65, P. 206)

• Number of Electric Department Employees (323, page 323)

• Construction Overheads—electric (217, p. 8 Allowance for Funds used During Construction)

Burden Statement: Public reporting burden for this collection has been reduced by the elimination of several schedules and the paper filing format requirement. The burden is estimated as:

Number of respondents annually | Number of responses per respondent | Average burden hours per response | Total annual burden hours
(1) | (2) | (3) | (1)x(2)x(3)
17 | 1 | 32 | 544

Estimated cost burden to respondents: 476 hours/2,080 hours per year x $117,041 per year = $26,784. The cost per respondent is equal to $ 1,576.

The reporting burden includes the total time, effort, or financial resources expended to generate, maintain, retain, disclose, or provide the information including:

(1) Reviewing instructions; (2) developing, acquiring, installing, and utilizing technology and systems for the purposes of collecting, validating, verifying, processing, maintaining, disclosing and providing information; (3) adjusting the existing ways to comply with any previously applicable instructions and requirements; (4) training personnel to respond to a collection of information; (5) searching data sources; (6) completing and reviewing the collection of information; and (7) transmitting, or otherwise disclosing the information.

The estimate of cost for respondents is based upon salaries for professional and clerical support, as well as direct and indirect overhead costs. Direct costs include all costs directly attributable to providing this information, such as administrative costs and the cost for information technology. Indirect or overhead costs are costs incurred by an organization in support of its mission. These costs apply to activities which benefit the whole organization rather than any one particular function or activity.

Comments are invited on: (1) Whether the proposed collection of information is necessary for the proper performance of the functions of the Commission, including whether the information will have practical utility; (2) the accuracy of the agency's estimate of the burden of the proposed collection of information, including the validity of the methodology and assumptions used; (3) ways to enhance the quality, utility and clarity of the information to be collected; and (4) ways to minimize the burden of the collection of information on those who are to respond.

David P. Boergers,
Secretary.

[FR Doc. 01-24443 Filed 9-28-01; 8:45 am]

BILLING CODE 6717-01-P